DEPARTMENT OF THE INTERIOR

Bureau of Safety and Environmental Enforcement

[Docket ID BSEE-2013-0012; OMB Control Number 1014-0022; 14XE1700DX EEEE500000 EX1SF0000.DAQ000]

Information Collection Activities: Oil and Gas and Sulphur Operations in the OCS—General; Submitted for Office of Management and Budget (OMB) Review; Comment Request

ACTION: 30-day Notice.

SUMMARY: To comply with the Paperwork Reduction Act of 1995 (PRA), the Bureau of Safety and Environmental Enforcement (BSEE) is notifying the public that we have submitted to OMB an information collection request (ICR) for review and approval of the paperwork requirements in the regulations under Subpart A, Oil and Gas and Sulphur Operations in the OCS—General. This notice also provides the public a second opportunity to comment on the revised paperwork burden of these regulatory requirements.

DATES: You must submit comments by July 30, 2014.

ADDRESSES: Submit comments by either fax (202) 395-5806 or email (OIRA_Submission@omb.eop.gov) directly to the Office of Information and Regulatory Affairs, OMB, Attention: Desk Officer for the Department of the Interior (1014-0022). Please provide a copy of your comments to BSEE by any of the means below:

• Electronically go to http://www.regulations.gov. In the Search box, enter BSEE-2013-0012 then click search. Follow the instructions to submit public comments and view all related materials. We will post all comments.

• Email nicole.mason@bsee.gov, fax (703) 787-1546, or mail or hand-carry comments to the Department of the Interior; BSEE; Regulations and Standards Branch; ATTN: Nicole Mason; 381 Elden Street, HE3313; Herndon, Virginia 20170-4817. Please reference ICR 1014-0022 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION: Title: 30 CFR part 250, Subpart A, Oil and Gas and Sulphur Operations in the OCS—General.

Form(s): BSEE-0011, BSEE-0132, BSEE-0143, BSEE-1832.

OMB Control Number: 1014-0022.

Abstract: The Outer Continental Shelf (OCS) Lands Act at 43 U.S.C. 1334 authorizes the Secretary of the Interior to prescribe rules and regulations necessary for the administration of the leasing provisions of the Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCS Lands Act at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. A request for approval required in 30 CFR 250.171(e) is subject to cost recovery, and BSEE regulations specify service fees for these requests in 30 CFR 250.125.

Regulations implementing these responsibilities are among those delegated to BSEE. The regulations at 30 CFR Part 250, Subpart A, concern the general regulatory requirements of oil, gas, and sulphur operations in the OCS (including the associated forms), and are the subject of this collection. This request also covers any related Notices to Lessees and Operators (NTLs) that BSEE issues to clarify, supplement, or provide additional guidance on some aspects of our regulations.

The BSEE uses the information collected under the Subpart A regulations to ensure that operations on the OCS are carried out in a safe and pollution-free manner, do not interfere with the rights of other users on the OCS, and balance the protection and development of OCS resources. Specifically, we use the information collected to:

• Review records of formal crane operator and rigger training, crane operator qualifications, crane inspections, testing, and maintenance to ensure that lessees/operators perform operations in a safe and workmanlike manner and that equipment is maintained in a safe condition. The BSEE also uses the information to make certain that all new and existing cranes installed on OCS fixed platforms must be equipped with anti-two block safety devices, and to assure that uniform methods are employed by lessees for load testing of cranes.

• Review welding plans, procedures, and records to ensure that welding is conducted in a safe and workmanlike manner by trained and experienced personnel.

• Provide lessees/operators greater flexibility to comply with regulatory requirements through approval of alternative equipment or procedures and departures to regulations if they demonstrate equal or better compliance with the appropriate performance standards.

• Ensure that injection of gas promotes conservation of natural resources and prevents waste.

• Record the agent and local agent empowered to receive notices and comply with regulatory orders issued.

• Provide for orderly development of leases through the use of information to determine the appropriateness of lessee/operator requests for suspension of operations, including production.

• Improve safety and environmental protection on the OCS through collection and analysis of accident reports to ascertain the cause of the accidents and to determine ways to prevent recurrences.

• Ascertain when the lease ceases production or when the last well ceases production in order to determine the 180th day after the date of completion of the last production. The BSEE will use this information to efficiently maintain the lessee/operator lease status.

• Allow lessees/operators who exhibit unacceptable performance an incremental approach to improving their overall performance prior to a final decision to disqualify a lessee/operator or to pursue debarment proceedings through the execution of a performance improvement plan (PIP). The Subpart A regulations do not address the actual process that we will follow in pursuing the disqualification of operators under §§ 250.135 and 250.136; however, our internal enforcement procedures include allowing such operators to demonstrate a commitment to acceptable performance by the submission of a PIP.

This information collection request has current forms and a new form associated with this collection. We have addressed any and all issues/changes to the forms as follows:

• New Form BSEE-0011, iSEE, Internet-Based Safety and Environmental Enforcement Reporting System, was created to clarify what information is needed when someone reports an apparent violation (§ 250.193). This reporting system provides members of the offshore oil and gas industry, as well as the public, with the ability for the electronic reporting of suspected violations of, or noncompliance with, any and all safety or environmentally-related laws or regulations; as well as any violations of or noncompliance with any associated lease, plan, or permit requirements that occur offshore. Information on Form BSEE-0011:

—The first 4 parts of the form are optional and for the purposes of asking follow-up questions if necessary.

• Last Name

• First Name

• Email Address

• Phone number

—The Category of Information section is used to specify what type of potential violation is being reported so that it can be routed internally to the appropriate BSEE personnel.

—The Region section is used to specify which region the potential violation occurred in so that it can be routed internally to the appropriate BSEE personnel.

—The Location Information provides BSEE with the ability to locate (using various data options as entered by the reporting party) where the potential violation took place.

• Company Name

• Area Block

• Lease Number

• Production Facility Name

• Drilling Rig Name

• GPS Coordinate Latitude and Longitude

• Date of Offense

• Other

—A Detailed Description of Problem or Event is used to facilitate BSEE in determining whether the potential violation warrants an investigation.

• Revisions to Form BSEE-1832, Incident(s) of Noncompliance (INCs), are due to BSEE developing a new electronic process to issue INCs and handle acknowledgements of INCs. The changes on the form pertain to giving the operator options on how to report back to BSEE for reporting the resolution of the issues identified in the INC, either via paper or electronically. The BSEE will continue the option to issue paper INCs and mail paper INCs; however, our inspectors will stop issuing hand-written INCs for most normal inspection violations and, instead, generate an INC on the inspector's tablet PCs. After marking a Preliminary-INC as a violation, the inspector will be able to generate an INC on the tablet and ask the operator to “sign” the tablet. The application will capture the signature and the inspector will generate the INC in PDF format. We added a certification to reflect that false statements may be subject to criminal penalties.

Form BSEE-0132, Hurricane and Tropical Storm Evacuation and Production Curtailment Statistics, is used in the Gulf of Mexico OCS Region (GOMR) to obtain general information such as company name, contact, date, time, telephone number; as well as number of platforms and drilling rigs evacuated and not evacuated, and production shut-in statistics for oil (BOPD) and gas (MMSCFD). We added a certification to reflect that false statements may be subject to criminal penalties.

Form BSEE-0143, Facility/Equipment Damage Report, is used to assess initial damage and then be aware of changes until the damaged structure or equipment is returned to service; as well as production rate at time of shut-in (BPD and/or MMCFPD), cumulative production shut-in (BPD and/or MMCFPD), and estimated time to return to service (in days). We added a certification to reflect that false statements may be subject to criminal penalties.

Most responses are mandatory, while others are required to obtain or retain benefits, or voluntary. No questions of a sensitive nature are asked. The BSEE protects information considered proprietary under the Freedom of Information Act (5 U.S.C. 552) and DOI's implementing regulations (43 CFR Part 2), and under regulations at 30 CFR 250.197, Data and information to be made available to the public or for limited inspection, and 30 CFR part 252, OCS Oil and Gas Information Program.

Frequency: On occasion, daily, weekly, monthly, and varies by section.

Description of Respondents: Potential respondents comprise Federal OCS oil, gas, and sulphur lessees/operators.

Estimated Reporting and Recordkeeping Hour Burden: The estimated annual hour burden for this information collection is a total of 84,391 hours. The following chart details the individual components and estimated hour burdens. In calculating the burdens, we assumed that respondents perform certain requirements in the normal course of their activities. We consider these to be usual and customary and took that into account in estimating the burden.

BILLING CODE 4310-VH-P

Estimated Reporting and Recordkeeping Non-Hour Cost Burden: We have identified one non-hour cost burden. Requests for a Suspension of Operations or a Suspension of Production (§ 250.171) requires a cost recovery fee of $2,123. We estimate a total reporting non-hour cost burden of $1,371,458. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, we published a Federal Register notice on March 26, 2014 (79 FR 16810), announcing that we would submit this ICR to OMB for approval. The notice provided the required 60-day comment period. In addition, § 250.199 provides the OMB Control Number for the information collection requirements imposed by the 30 CFR Part 250, Subpart A regulations and forms. The regulation also informs the public that they may comment at any time on the collections of information and provides the address to which they should send comments.

Between the last collection submitted and this collection, we received one comment from a private citizen concerning BSEE not having any options for electronic submission of Form BSEE-0132, Hurricane and Tropical Storm Evacuation and Production Curtailment Statistics (GOMR). Our response: An electronic option does exist. The BSEE provides a secure alternative for operators to report the information required on BSEE-0132 in eWell.

Form BSEE-0011, iSEE, was out for comment and published in the Federal Register on November 18, 2013 (78 FR 69118); and on March 26, 2014 (79 FR 16810). We received two comments from a private citizen (submitted same comment for both 60-day notices) that Form BSEE-0011 should include the same or something similar as admonition to the reporter against false reporting. Our response: The BSEE would like some kind of a report of what individuals have encountered. There could be situations in which people think they saw something but aren't sure—we still would like them to report so BSEE can further investigate. With the statement on the form, we feel that this would deter individuals from reporting. Even without the statement on the form, the individuals/submitters are still subject to penalties for false statements, so we could still penalize any abuse or malicious intent of the system.

Public Availability of Comments: Before including your address, phone number, email address, or other personal identifying information in your comment, you should be aware that your entire comment—including your personal identifying information—may be made publicly available at any time. While you can ask us in your comment to withhold your personal identifying information from public review, we cannot guarantee that we will be able to do so.

Information Collection Clearance Officer: Cheryl Blundon, 703-787-1607.

Dated: June 19, 2014.
Robert W. Middleton,
Deputy Chief, Office of Offshore Regulatory Programs.

[FR Doc. 2014-15317 Filed 6-27-14; 8:45 am]

BILLING CODE 4310-VH-C